DEPARTMENT OF TRANSPORTATION

Pipeline and Hazardous Materials Safety Administration

[Docket No. PHMSA-04-19856]

Pipeline Safety: Lessons Learned From a Security Breach at a Liquefied Natural Gas Facility

AGENCY: Pipeline and Hazardous Materials Safety Administration (PHMSA), DOT.

ACTION: Notice; Issuance of Advisory Bulletin.

SUMMARY: This advisory reminds operators of the need for vigilance in providing security at liquefied natural gas (LNG) facilities. PHMSA's pipeline safety regulations require operators to implement security measures that deter intruders at LNG terminals, facilities, and peak-shaving plants. This Advisory Bulletin reinforces the importance of effectively implementing and thoroughly testing security procedures and systems.

ADDRESSES: This document can be viewed on the PHMSA home page at: http://www.phmsa.dot.gov.

FOR FURTHER INFORMATION CONTACT: Joy Kadnar at (202) 366-0568, or by e-mail at Joy.Kadnar@dot.gov; or Buddy Secor at (571) 227-1306, or by e-mail at Buddy.Secor@dhs.gov.

SUPPLEMENTARY INFORMATION:

I. Background

PHMSA's pipeline safety regulations require operators to implement security measures that deter intruders. These measures include written procedures, protective enclosures, security communication, lighting, and monitoring (49 CFR part 193, subpart J). Operators must use staff who have been trained to carry out security duties through means that include security training (49 CFR 193.2709 and 2715). Operators need to implement these measures in ways that ensure personnel and systems detect trespassers and respond correctly.

LNG Facility Security: Lessons Learned From the Security Breach in Lynn, MA

A recent breach in security at an LNG facility shows the need for preparedness and vigilance. The operator discovered a breach of security at its LNG facility during routine maintenance on a gate at the side of the storage tank. Although there was no damage to the tank, intruders had broken through the gate to gain access to the tank.

Investigation revealed that the intruders had cut through the outer and inner perimeter fences and through the locked gate and gained access to the storage tank several days before the breach was discovered. A microwave intrusion system documented the intrusions on the computer monitoring system, which should have alerted operator personnel to the intrusions. Operator personnel did not respond. In the days following, personnel conducted several routine visual inspections of the area without noting the cuts in the fences. Although there was also video surveillance of the perimeter, personnel did not review the tape until they investigated the breach.

State authorities responded quickly to examine security at other LNG facilities in the state. These authorities inspected operator practices and procedures to ensure personnel and systems respond correctly during a security breach.

II. Advisory Bulletin (ADB-06-04)

To: Owners and Operators of LNG Plants That Contain LNG.

Subject: Security at LNG facilities.

Advisory: The pipeline safety regulations require an operator of LNG facilities in a plant containing LNG to develop and follow written procedures for security at the LNG plant. Operators need to verify the reliability and feasibility of security procedures and systems. Operators also need to ensure personnel and systems respond correctly when security is compromised.

LNG Facility Security: Lessons Learned from the Security Breach in Lynn, MA

PHMSA recommends LNG facility operators establish and follow these suggested practices and procedures to ensure that their security measures function as intended by the regulations, and that security at their LNG plants is rigorous:

• Test systems thoroughly to verify that alarms work and that monitoring devices function as intended;

• Ensure remotely stationed personnel are properly trained on the security procedures of each facility that they monitor;

• Determine whether personnel monitoring security for an LNG plant can realistically respond to security breaches in a timely manner;

• Update security procedures as needed to provide effective security at the LNG plant and to incorporate the most relevant threat information;

• Confirm that remote monitoring station personnel properly coordinate activities with those parties responsible for LNG plant facility security; and,

• Independently audit LNG plant security or conduct unannounced tests of security systems, procedures, and personnel.

Authority: 49 U.S.C. chapter 601; 49 CFR 1.53.

Issued in Washington, DC, on December 22, 2006.
Theodore L. Willke,
Acting Associate Administrator for Pipeline Safety.

[FR Doc. E6-22323 Filed 12-27-06; 8:45 am]

BILLING CODE 4910-60-P